NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. NSF is forwarding the proposed submission to the Office of Management and Budget (OMB) for clearance simultaneously with the publication of this second notice. The full submission (including comments) may be found at: http://www.reginfo.gov/public/do/PRAMain.

DATES: Written comments on this notice must be received by June 26, 2017, to be assured consideration. Comments received after that date will be considered to the extent practicable. Send comments to address below.

FOR FURTHER INFORMATION CONTACT: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: This is the second notice for public comment; the first was published in the Federal Register at 81 FR 93967, and no comments were received.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: Evaluation of the National Science Foundation's Innovation Corps Team Program.

OMB Clearance Number: 3145—NEW.

Type of Request: Intent to seek approval to establish an information collection.

Abstract: The Innovation Corps (I-Corps) program was established in 2011 as part of NSF's efforts to encourage a culture of innovation among recipients of research grants. The program provides support and guidance to selected grantees on how to pursue commercial applications of their research. The I-Corps Teams program uses a lean startup approach to encourage scientists to think like entrepreneurs through intensive workshop training and ongoing support. The program focuses on teams comprised of a principal investigator, entrepreneurial lead, and mentor that work together to explore commercialization for their research-derived products.

NSF is supporting the evaluation of the program that includes a rigorous longitudinal outcome/impact evaluation of the I-Corps Team Program using a quasi-experimental design to understand I-Corps impact on teams that go through the program and its impact on team members and academic culture.

The Office of Management and Budget has previously provided clearance for 3 data collection efforts associated with the I-Corps workshops targeting I-Corps grantees. These refer to: (1) A pre-course survey (2) a post-course survey and (3) a longitudinal survey of principal investigators in the program. This request builds on this previously approved information collection for NSF's Engineering IIP Program Monitoring Clearance (OMB Control No. 3145-0238).

This information collection request relates to (1) a proposed survey of principal investigators (PIs) in comparable non-I-Corps NSF projects and (2) In-depth interviews with 10 I-Corps and 10 comparable non-I-Corps teams.

The survey will begin with an initial screening module to identify PIs who have received support for projects with commercial potential and who have desire to act on that potential but have not received an I-Corps grant. PIs with non-Corps NSF-funded projects awarded between 2009 and 2013 will be surveyed. PIs who reported active interest in commercial potential for their research projects will be asked to complete an additional module adapted from the I-Corps Longitudinal Data Collection already approved by OMB for I-Corps team members. The longitudinal survey collects information on project outputs and outcomes related to commercialization of research-based products. PIs not interested in the commercial potential of their research will stop the survey after completing the screening module.

In addition to the comparison between the I-Corps teams and a comparable group based on survey results, the study also includes in-depth interviews to gain an understanding of the influence of participation in the I-Corps program on PIs and other team members as well as to compare the impact of the I-Corps program on industry collaborations and other networking activities. Half of all in-depth interviews will be conducted over the phone while the other half will take place during site visits to the home institutions of the teams selected for the study.

Affected Public: Non-I-Corps Grant recipients of NSF Programs common in the background of I-Corps Teams Program PIs for the survey and 10 I-Corps and 10 non-I-Corps research teams and networks.

Total Respondents: 8,709.

Estimated Total Burden Hours: 1,245 hours.

Dated: May 22, 2017.
Suzanne H. Plimpton,
Reports Clearance Officer, National Science Foundation.

[FR Doc. 2017-10750 Filed 5-24-17; 8:45 am]

BILLING CODE 7555-01-P